DEPARTMENT OF TRANSPORTATION

Federal Aviation Administration

14 CFR Part 71

[Docket No. FAA-2013-0950; Airspace Docket No. 13-AGL-34]

Amendment of Class D and Class E Airspace; Grand Forks, ND

AGENCY: Federal Aviation Administration (FAA), DOT.

ACTION: Final rule; technical amendment, correction.

SUMMARY: This action corrects the geographic coordinates and adds the geographic coordinates of the Grand Forks International Airport ILS Localizer, and removes NOTAM information, in the regulatory text of a final rule that was published in the Federal Register of December 10, 2013, amending Class D and Class E airspace in the Grand Forks, ND area.

DATES: Effective Date: 0901 UTC, February 6, 2013.

FOR FURTHER INFORMATION CONTACT: Scott Enander, Central Service Center, Operations Support Group, Federal Aviation Administration, Southwest Region, 2601 Meacham Blvd., Fort Worth, TX 76137; telephone (817) 321-7716.

SUPPLEMENTARY INFORMATION:

History

On December 10, 2013, the FAA published in the Federal Register a final rule amending Class D and Class E airspace in the Grand Forks, ND area. (78 FR 74005, Docket No. FAA-2013-0950). Subsequent to publication, an error was discovered in the latitude coordinates for Grand Forks International Airport listed in the Class D airspace description, as well as the NOTAM information inadvertently copied in error for Grand Forks AFB. In addition, reference to the Grand Forks International Airport ILS localizer navigation aid was omitted from the descriptor for the Grand Forks, ND, Class E airspace.

Class D and Class E airspace designations are published in paragraph 5000 and 6005, respectively, of FAA Order 7400.9X dated August 7, 2013, and effective September 15, 2013, which is incorporated by reference in 14 CFR Part 71.1. The Class D and Class E airspace designations listed in this document will be published subsequently in the Order.

Correction to Final Rule

Accordingly, pursuant to the authority delegated to me, the Class D airspace areas at Grand Forks International Airport, Grand Forks, ND, and Grand Forks AFB, ND, and the Class E airspace area extending upward from 700 feet above the surface at Grand Forks International Airport, Grand Forks, ND, as published in the Federal Register December 10, 2013 (78 FR 74005), (FR Doc. 2013-29222) FAA Docket No. 2013-0950, are corrected as follows:

AGL ND D Grand Forks, ND [Corrected]

Grand Forks International Airport, ND

On page 74006, column 1, line 29 of the regulatory text, remove `lat. 47°5′50″ N.,' and insert `lat. 47°56′50″ N.'

AGL ND D Grand Forks AFB, ND [Corrected]

On page 74006, column 1, and beginning on line 51, remove the following:

This Class D airspace area is effective during the specific dates and times established in advance by a Notice to Airmen. The effective date and time will therefore be continuously published in the Airport/Facility Directory.

AGL ND E5 Grand Forks, ND [Corrected]

On page 74006, column 2, add the following after line 46:

Grand Forks International Airport ILS Localizer

(Lat. 47°53′43″ N., long. 97°10′52″ W.)

Issued in Washington, DC, on February 3, 2014.
Mark W. Bury,
Assistant Chief Counsel, International Law, Legislation, and Rulemaking.

[FR Doc. 2014-02563 Filed 2-3-14; 4:15 pm]

BILLING CODE 4910-13-P